DEPARTMENT OF THE INTERIOR

National Park Service

[NPS-WASO-NAGPRA-NPS0035614; PPWOCRADN0-PCU00RP14.R50000]

Notice of Inventory Completion Amendment: U.S. Department of the Interior, Fish and Wildlife Service, Alaska Region, Anchorage, AK

AGENCY: National Park Service, Interior.

ACTION: Notice; amendment.

SUMMARY: In accordance with the Native American Graves Protection and Repatriation Act (NAGPRA), the U.S. Department of the Interior, Fish and Wildlife Service, Alaska Region, Anchorage, AK (FWS Alaska) has amended a Notice of Inventory Completion published in the Federal Register on July 14, 2008. This notice amends the minimum number of individuals and the number of associated funerary objects in collections removed from the Aleutians West Borough, AK.

DATES: Repatriation of the human remains and associated funerary objects in this notice may occur on or after May 17, 2023.

ADDRESSES: Jeremy M. Karchut, Regional Archeologist/Regional Historic Preservation Officer, U.S. Fish and Wildlife Service, 1011 E Tudor Rd., MS-235, Anchorage, AK 99503, telephone (907) 786-3399, email jeremy_karchut@fws.gov.

SUPPLEMENTARY INFORMATION: This notice is published as part of the National Park Service's administrative responsibilities under NAGPRA. The determinations in this notice are the sole responsibility of FWS Alaska. The National Park Service is not responsible for the determinations in this notice. Additional information on the amendments and determinations in this notice, including the results of consultation, can be found in the inventory or related records held by FWS Alaska.

Amendment

This notice amends the determinations published in a Notice of Inventory Completion in the Federal Register (73 FR 40371-40372, July 14, 2008). Repatriation of the items in the original Notice of Inventory Completion has not occurred. This notice amends the number of individuals and number of associated funerary objects.

The number of individuals originally reported from Cold Cave, Kagamil Island decreased from 30 to 17 and the number of associated funerary objects increased from 127 to 155. The number of individuals originally reported from Warm Cave, Kagamil Island increased from one to eight, and the number of associated funerary objects increased from 23 to 151. The number of individuals originally reported from Mask Cave, Kagamil Island decreased from four to one, and the number of associated funerary objects increased from 60 to 72.

Table of Changes

Human Remains

Site | Original number of individuals | Amended number of individuals
Kagamil Island, Cold Cave | 30 | 17
Kagamil Island, Warm Cave | 1 | 8
Kagamil Island, Mask Cave | 4 | 1

Associated Funerary Objects

Site | Original number | Amended number | Amended description
Kagamil Island, Cold Cave | 127 | 155 | one abrader; two awls; one basalt biface; one bentwood bowl; one bentwood bowl fragment; five bidarka skins; five bird feather lots; four bone points; three bone wedges; one bowl bottom; one braid of grass; one braid of hair; one coat fragment; one ethnobotany sample; 60 matting fragments; one fur and hair lot; two grass lots; four containers of grave soil; one hair and feather lot; two hair lots; one harpoon head; 16 kayak frame fragments; eight lengths of cordage; one matting bundle; two moss and grass lots; one obsidian point; one skin and fur bundle; two wood fragments; one wooden mask attachment; nine wooden shaft fragments; one piece of worked antler; nine pieces of worked bone; and five pieces of worked wood.
Kagamil Island, Warm Cave | 23 | 151 | one base of a wood vessel; two bird wing bundles; one blade fragment; one bone and grass lot; five bone lots; one bone, wood, and soil lot; two charcoal samples; two pieces of cordage; two crab legs; three crystal lots; two dust lots; eight feather lots; five pieces of fur; three grass and dust lots; three grass, dust, bone, and feather lots; one hide/leather lot; two pieces of human hair; 13 kayak fragments; one lithic lot; 35 matting fragments; three rock lots; one sea urchin lot; one seed lot; one shell lot; 10 undetermined objects; one wood and charcoal lot; one wood bowl rim; 29 wood fragments; one piece of wood scaffolding; and 10 wood shaft fragments.
Kagamil Island, Mask Cave | 60 | 72 | one adze; two basalt bifaces; two basalt flakes; one bone root digger; one bone wedge; two doll head fragments; five figurines; eight kayak parts; one obsidian flake; one shell object; one lot of undetermined material; one wood disc; 25 wood fragments; 15 wood mask fragments; one wood net float; two wood objects; one wood peg fragment; one wood sample; and one wood shaft fragment.

Determinations (as Amended)

Pursuant to NAGPRA and its implementing regulations, and after consultation with the appropriate Indian Tribes and Native Hawaiian organizations, the U.S. Fish & Wildlife Service has determined that:

• The human remains represent the physical remains of 26 individuals of Native American ancestry.

• The 378 objects are reasonably believed to have been placed with or near individual human remains at the time of death or later as part of the death rite or ceremony.

• There is a relationship of shared group identity that can be reasonably traced between the human remains and associated funerary objects and Native Village of Nikolski.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after May 17, 2023. If competing requests for repatriation are received, FWS Alaska must determine the most appropriate requestor prior to repatriation. Requests for joint repatriation of the human remains and associated funerary objects are considered a single request and not competing requests. FWS Alaska is responsible for sending a copy of this notice to the Indian Tribe identified in this notice.

Authority: Native American Graves Protection and Repatriation Act, 25 U.S.C. 3003, and the implementing regulations, 43 CFR 10.9, 10.10, 10.13, and 10.14.

Dated: March 29, 2023.
Melanie O'Brien,
Manager, National NAGPRA Program.

[FR Doc. 2023-08054 Filed 4-14-23; 8:45 am]

BILLING CODE 4312-52-P